DEPARTMENT OF THE INTERIOR

Bureau of Land Management

[LLUT980300-L11200000-PH0000-24-1A]

Utah Resource Advisory Council Subgroup Conference Call

AGENCY: Bureau of Land Management, Interior.

ACTION: Conference Call.

SUMMARY: In accordance with the Federal Land Policy and Management Act and the Federal Advisory Committee Act, the Bureau of Land Management's (BLM) Utah Resource Advisory Council (RAC) Subgroup will host a conference call.

DATES: The Utah RAC Subgroup will host a conference call on Monday, June 24, 2013, from 10:00 a.m.-12:00 p.m., MST.

ADDRESSES: Those attending in person must meet at the BLM, Utah State Office, 440 West 200 South, Salt Lake City, Utah, in the Monument Conference Room on the fifth floor. The conference call will be recorded for purposes of minute-taking.

FOR FURTHER INFORMATION CONTACT: If you wish to listen to the teleconference, orally present material during the teleconference, or submit written material for the Council to consider during the teleconference, please notify Sherry Foot, Special Programs Coordinator, Bureau of Land Management, Utah State Office, 440 West 200 South, Suite 500, Salt Lake City, Utah 84101; phone 801-539-4195; or, sfoot@blm.gov by Friday, June 21, 2013.

SUPPLEMENTARY INFORMATION: The Utah Resource Advisory Council (RAC) formed a subgroup to review BLM-Utah's draft three-year National Conservation Lands Strategy. In May 2013, the RAC provided the BLM-Utah State Director with recommended changes to the draft strategy and this meeting was held to discuss how BLM-Utah has incorporated their recommendations into a revised draft strategy. A public comment period will take place immediately following the presentation. The meeting is open to the public; however, transportation, lodging, and meals are the responsibility of the participating individuals.

Authority: 43 CFR 1784.4-1.

Jenna Whitlock,
Associate State Director.

[FR Doc. 2013-14138 Filed 6-13-13; 8:45 am]

BILLING CODE 4310-DQ-P